DEPARTMENT OF ENERGY

International Energy Agency Meetings

AGENCY: Department of Energy.

ACTION: Notice of Meetings.

SUMMARY: The Industry Advisory Board (IAB) to the International Energy Agency (IEA) will meet on February 24, 2015, at the headquarters of the IEA in Paris, France in connection with a joint meeting of the IEA's Standing Group on Emergency Questions (SEQ) and the IEA's Standing Group on the Oil Market (SOM) on that day, and on February 25, 2015, in connection with a meeting of the SEQ on that day.

DATES: June 23-24, 2015.

ADDRESSES: 9, rue de la Fédération, Paris, France.

FOR FURTHER INFORMATION CONTACT: Thomas Reilly, Assistant General Counsel for International and National Security Programs, Department of Energy, 1000 Independence Avenue SW., Washington, DC 20585, 202-586-3417.

SUPPLEMENTARY INFORMATION: In accordance with section 252(c)(1)(A)(i) of the Energy Policy and Conservation Act (42 U.S.C. 6272(c)(1)(A)(i)) (EPCA), the following notice of meetings is provided:

Meetings of the Industry Advisory Board (IAB) to the International Energy Agency (IEA) will be held at the headquarters of the IEA, 9, rue de la Fédération, Paris, France, on June 23, 2015, commencing at 9:30 a.m., continuing at 9:30 a.m. on June 24, 2015, and again at 9:30 a.m. on June 25, 2015. The purpose of this notice is to permit attendance by representatives of U.S. company members of the IAB at a joint meeting of the IEA's Standing Group on Emergency Questions (SEQ) and the IEA's Standing Group on the Oil Markets (SOM) on June 23 at the same location commencing at 9:30 a.m., and at a meeting of the SEQ on June 24 at the same location commencing at 9:30 a.m. The IAB will also hold a preparatory meeting among company representatives at the same location at 8:30 a.m. on June 24. The agenda for this preparatory meeting is to review the agenda for the SEQ meeting.

The agenda of the joint meeting of the SEQ and the SOM on June 23 is under the control of the SEQ and the SOM. It is expected that the SEQ and the SOM will adopt the following agenda:

1. Adoption of the Agenda

2. Approval of the Summary Record of the February 24, 2015 Joint Session

3. Reports on Recent Oil Market and Policy Developments in IEA Countries

4. Update on Offshore Installation Manager Projects and Priorities

5. The Current Oil Market Situation

6. Findings from the Medium-Term Gas Market Report 2015

7. Key Messages from the World Energy Outlook 2015 Special Report on Climate Change

8. The Changing Outlook for Chinese Oil Demand

9. Lower Oil Prices: Impact on GCC Budgets and Production Policy

10. Impact of Lower Prices on Investment and the Oil Service Industry

11. Other Business

—Tentative schedule of upcoming SEQ and SOM meetings for 2015:

—October 13-15, 2015

The agenda of the SEQ meeting on June 24 is under the control of the SEQ. It is expected that the SEQ will adopt the following agenda:

1. Adoption of the Agenda

2. Approval of the Summary Record of the 144th Meeting

3. Status of Compliance with IEP Agreement Stockholding Obligations

4. Australia Compliance Update

5. ERR Program including update

6. Emegency Response Review of the United Kingdom

7. Outreach/APSA

8. Mid-term Review of Finland

9. Thailand's National Emergency Response Exercise

10. Industry Advisory Board Update

11. Emergency Response Assessment of Columbia

12. Emergency Response Review of Portugal

13. Geo-spatial Analysis

14. Emergency Response Review of New Zealand

Day 2 (June 25)

15. Tickets Analysis

16. Mid-term Review of Germany

17. Oral Reports by Administrations

18. Emergency Response Review of Greece

19. Saving Oil in a Hurry

20. Survey of Electricity Security Arrangements in IEA Member Countries: Preliminary Findings

21. Other Business

—Schedule of next SEQ and SOM meetings:

—October 13-15, 2015

—2016 provisional dates:

—March 15-17

—May 31-June 2

—September 27-29

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, June 10, 2015.
Thomas Reilly,
Assistant General Counsel for International and National Security Programs.

[FR Doc. 2015-14775 Filed 6-15-15; 8:45 am]

BILLING CODE 6450-01-P